DEPARTMENT OF HEALTH AND HUMAN SERVICES

Administration for Children and Families

Proposed Information Collection Activity; Comment Request

Proposed Projects

Title: Early Head Start Research and Evaluation Project: 5th Grade Follow-Up.

OMB No.: 0970-0143.

Description: The Administration for Children and Families (ACF) within the Department of Health and Human Services (HHS) is requesting comments on plans to collect 5th-grade follow-up data on children recruited into the Early Head Start Research and Evaluation study. This study is being conducted to assess children and families when the children in the study will be 5th graders or attending the 6th year of their formal schooling. Because of the way children and families were initially recruited for the study, it will take three years to collect 5th-grade data from the full sample of children. About 30 percent of the sample will be 5th graders in spring 2007, 50 percent in spring 2008, and 20 percent in spring 2009. Data will be collected on a sample of approximately 1,900 children and families across all 17 of the Early Head Start research sites. Data collection will include a child assessment and a child interview, an interview with the child's primary caregiver (usually the child's mother), videotaping of mother-child interactions and a set of home observations, and a questionnaire to be completed by the child's 5th-grade teacher.

This data collection is necessitated by the mandates of the 1998 reauthorization of Head Start (Head Start Act, as amended, October 27, 1998, Section 649(d) and (e)).

Respondents: Individuals or households.

Annual Burden Estimates
Instrument | Number of respondents | Number of responses per respondent | Average burden hours per response | Total burden hours
Year 1 (2007):
Parent Interview | 570 | 1 | 1.00 | 570
Child Assessment | 570 | 1 | 1.16 | 661
Child Interview | 570 | 1 | 0.25 | 143
Mother-Child Interaction | 1,140 | 1 | 0.25 | 285
Teacher Questionnaire | 570 | 1 | 0.50 | 285
Year 1 Total | 3,420 |  |  | 1,944
Year 2 (2008):
Parent Interview | 950 | 1 | 1.00 | 950
Child Assessment | 950 | 1 | 1.16 | 1,102
Child Interview | 950 | 1 | 0.25 | 238
Mother-Child Interaction | 1,900 | 1 | 0.25 | 475
Teacher Questionnaire | 950 | 1 | 0.50 | 475
Year 2 Total | 5,700 |  |  | 3,240
Year 3 (2009):
Parent Interview | 380 | 1 | 1.00 | 380
Child Assessment | 380 | 1 | 1.16 | 441
Child Interview | 380 | 1 | 0.25 | 95
Mother-Child Interaction | 760 | 1 | 0.25 | 190
Teacher Questionnaire | 380 | 1 | 0.50 | 190
Year 3 Total | 2,280 |  |  | 1,296

Estimated Total Burden Hours: 6,480.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 10, 2006.
Robert Sargis,
Reports Clearance Officer.

[FR Doc. 06-6227 Filed 7-13-06; 8:45 am]

BILLING CODE 4184-01-M